DEPARTMENT OF JUSTICE

Office for Victims of Crime

[OJP(OVC)-1300]

Children's Justice Act Partnerships for Indian Communities

AGENCY: Office of Justice Programs, Office for Victims of Crime, Justice.

ACTION: Notice of availability of funds.

SUMMARY: The Office for Victims of Crime (OVC) is publishing this notice to announce a $500,000 discretionary grant program for federally recognized Indian tribal governments and tribal organizations designed to improve the handling of severe child abuse cases, particularly cases of child sexual abuse, in a manner which limits additional trauma to the child while improving the investigation and prosecution of these cases.

DATES: Applications must be received by 5:00 p.m. ET on Thursday, November 30, 2000.

ADDRESSES: All application packages should be sent to the Office for Victims of Crime, Federal Crime Victims Division, 810 Seventh Street, NW., Washington, DC 20531. If sending applications by express mail, the zip code should be 20001.

For Further Information Contact: For a copy of the solicitation or for information about application procedures, please call Cathy Sanders at (202) 616-3578 or e-mail at <cathy@ojp.usdoj.gov>.

SUPPLEMENTARY INFORMATION:

Statutory Authority

This action is authorized by the Victims of Crime Act of 1984 (VOCA), as amended, 42 U.S.C. 10601 et seq. The Act established a Crime Victims Fund in the Department of the Treasury made up of monies received from federal criminal fines; special penalty assessments; forfeited appearance bonds, bail bonds and collateral security; and literary profits due convicted federal defendants. Under the provisions of 42 U.S.C. 10601 (d)(2), the first $20,000,000 deposited in the Fund in a particular year shall be available for grants as provided in 42 U.S.C. 10603(a). Under 42 U.S.C. 10601 (g)(1) the Attorney General, acting through the Director of OVC, is authorized to use 15 percent of these funds for the purposes of assisting Indian tribes in developing, establishing, and operating programs designed to improve the handling, investigation, and prosecution of child abuse cases, especially child sexual abuse cases. OVC has labeled this program as the Children's Justice Act Partnerships for Indian Communities Discretionary Grant Program (CJA).

Background

The Children's Justice and Assistance Act was passed in 1986 to provide funds to states to establish programs to effectively handle child abuse cases. In 1988, the Anti-Drug Abuse Act amended the Victims of Crime Act of 1984, authorizing the use of a portion of the State CJA funds to assist Indian Tribes in developing, establishing and operating programs to improve the handling, investigation, and prosecution of child abuse cases, particularly child sexual abuse cases.

Since 1989, OVC has provided CJA funding to approximately 45 tribes. The tribal programs have made a number of systemic improvements in the handling of child abuse cases. They have established, expanded, and trained multidisciplinary and child protection teams; revised tribal codes and procedures to address child sexual abuse; provided child advocacy services for children involved in court proceedings; created protocols for reporting, investigating, and prosecuting cases of child sexual abuse; developed working agreements that minimize the number of child interviews; enhanced case management and treatment services; offered specialized training for prosecutors, judges, investigators and other professionals who handle child sexual abuse cases; created special child-centered interview rooms; and hired specialized staff to handle child victim cases.

Goal

The goal of the program is to improve tribal criminal justice systems for handling cases of severe physical abuse and/or child sexual abuse in Indian communities.

Purpose

The purpose of the program is to assist Indian communities in developing, establishing, and operating partnership programs to improve the investigation, prosecution, and overall handling of cases of child sexual abuse and severe physical abuse, in a manner that increases support for and lessens trauma to child victims.

Program Strategy

This solicitation invites applicants to conceptualize, develop, and implement a CJA partnership program which will improve the investigation and prosecution of child abuse cases, particularly child sexual abuse cases. However, the partnership program is not intended to fund separate programs within tribal governments. Rather, it is intended to improve the capacity of existing tribal systems to handle severe child abuse cases by developing specialized services and procedures to address the needs of American Indian child victims. The program focuses on developing strategies to handle cases of child sexual abuse from the initial disclosure, through the investigation and prosecution, to the resolution of the case in an effective and timely manner.

The organizational structure and staffing pattern described in the application must be implemented as soon as possible after award of grant funds. Applicants are, therefore, encouraged to discuss the proposed partnership with their Tribal Chairman, Tribal Council, and other tribal agencies prior to submission of the application, and to solicit their support and approval of the partnership for the life of the program.

A Tribal Resolution must be included with the application, which approves commitments and activities for the first year of the grant. For years two and three, the activities or implementation plan should be outlined in sufficient detail to show that the proposed program will contribute to the development of a strong partnership.

The strategy for establishing a fully functioning partnership program consists of three stages of project implementation over a three year grant period. An in-kind or hard match is required each year. (See “Award Amount” for an explanation of the in-kind match requirements.) The three stages of implementation are:

1. Stage I—Assessment and Partnership Development. During Stage I, the grantee is expected to assess its current tribal system and its resources for implementing a partnership program and determine what additional resources and system changes are needed to deal effectively with child abuse cases. The assessment should examine the current procedures for responding to child abuse, procedures for interviewing child victims, the delivery of services to victims and their non-offending family members, training for social service, criminal justice, and medical and mental health personnel, and community awareness efforts. The grantee should hire and train key staff to handle and process cases through the tribal system. Training for multidisciplinary teams, prosecutors, law enforcement personnel, judges, advocates, medical, mental health and social service professionals may be required. There may also be a need to revise existing procedures for handling child abuse cases, interviewing child victims, providing court advocacy, and providing treatment services.

The products of this stage include the following: (a) Job descriptions and resumés for key staff hired or contracted under the grant; (b) a report of the findings and recommendations from the assessment, which describes the additional changes and resources needed to implement an efficient project; (c) activity reports that summarize major activities and accomplishments of the grant to be submitted to OVC semi-annually during this stage; and (d) a service delivery plan and agendas for the training of personnel involved in handling serious child abuse cases, if appropriate at this stage.

2. Stage II—Implementation of Partnership Program and Development of Training and Resource Materials. In implementing the project, the grantee should revise existing materials or develop new ones, such as interagency protocols, reporting procedures, partnership agreements with federal, state, and/or other tribal agencies, and tribal codes that address child sexual abuse (including definitions, sentencing guidelines, and maximum penalties for offenders). Other materials might include descriptions of training curricula and practices that assist and support children who must participate in tribal judicial proceedings. These materials can be used by the grantee and may be of value to other tribes seeking culturally appropriate materials to assist them in following similar practices on behalf of child victims.

The grantee may find it useful to obtain materials from other tribal agencies, organizations, and current CJA programs that will help them improve their response to child sexual abuse cases. The grantee should integrate these practices into its current system and develop its capacity to provide training and technical assistance to other tribes.

The products of this stage would include the following: (a) A compilation of the materials gathered by the grantee from within the tribe and from other sources; (b) training curricula; (c) a brochure and/or resource directory, which advertises the availability of the tribe's resources, services, and training opportunities that can be distributed to the tribal community; and (d) progress reports that summarize major activities and accomplishments of the grant. The progress reports must be submitted to OVC semi-annually during this stage of program activities.

3. Stage III—Delivery of Services. During the third stage, the partnership program is expected to be fully functional and capable of providing effective services to sexually abused child victims. The program can serve as a model for: (a) Illustrating effective approaches to handling serious child abuse cases; (b) coordinating with various tribal, state and federal agencies; (c) meeting the needs of American Indian child abuse victims and their families; and (d) communicating with tribal councils and other bodies in responding effectively to child abuse. Materials such as diagrams, flow charts, and descriptions of program models can be shared with other tribes to demonstrate how to make similar changes on behalf of abused child victims. The materials and descriptions should include information on developing proper interviewing procedures, providing court advocacy, and making other improvements that adapt investigative and judicial procedures to address the needs and abilities of abused child victims.

The products of this stage could include the following: (a) illustrative materials on program implementation and training; (b) reports describing the training provided by the tribe; (c) recommendations for and descriptions of training workshops that might be offered in OVC-sponsored conferences for assisting abused child victims in Indian communities; (d) semi-annual progress reports that summarize major activities and accomplishments of the grant; and (e) a final narrative report.

From time to time, partnership program staff may be asked to participate in OVC-sponsored conferences and training sessions to demonstrate model practices, provide program materials and handouts, serve as trainers, or participate on discussion groups and panels. Consequently, applicants should include travel expenses for two key staff to attend at a minimum one OVC-sponsored national conference and one post-awards planning conference.

OVC recognizes that jurisdictional authority over child sexual abuse cases varies greatly among tribes. Hence, we seek innovative projects based on the unique jurisdictional characteristics of a particular tribal criminal justice and service delivery system. OVC expects tribes that receive these grants to be actively involved in determining the manner in which these cases are administratively and judicially processed at the tribal, state and federal levels. Tribes should coordinate child sexual abuse case referrals with the appropriate state and federal authorities for prosectuion and follow-up with tribal prosecution when appropriate.

In addition, OVC encourages the use of multidisciplinary teams (known in many Indian communities as Child Protection Teams) to respond to cases of child sexual abuse. This could also include specialized prosecutorial units for the investigation, referral, and prosecution of child abuse cases. Mulitdisciplinary teams which are developed or expanded as a result of this grant must include representatives from the tribal, state and federal agencies that provide services to the tribe. These multidisciplinary teams should assist in clarifying roles and responsibilities of all authorities involved in these cases, including social and medical services, law enforcement officials, and prosecutors. Project funds shall not be used to replace or serve as a substitute for funds already used for existing multidisciplinary teams or child protective agencies, (known as supplanting).

Eligibility Requirements

Eligible applicants are federally recognized Indian tribes and tribal organizations. Grant awards will be limited to tribal organizations as defined in the Indian Self-Determination and Education Assistance Act, P.L. 93-638, 25 U.S.C., Section 450(b). Under this provision, the definition of “tribal organization” is the recognized governing body of any Indian tribe, to include any legally established organization of Indians which is controlled, sanctioned, or chartered by such governing body or which is democratically elected by the adult members of the Indian community to be served by such organization and which includes the maximum participation of Indians in all phases of its activities. Applications must be signed by the leader or chief executive of the tribe. In cases where the Tribal Council serves as the governing body, the application must be signed by the Chairman or other recognized leader of the Council.

Selection Criteria

Applications that are determined to be in compliance with this announcement will be reviewed by panels of experts in criminal justice procedures, social services, victim assistance, and related disciplines. Panels will be composed of staff from federal, state, tribal, or local agencies; colleges; national organizations; and other nongovernmental agencies. Applications will be reviewed and evaluated competitively against the following criteria:

1. The Problem to be Addressed (15 points) This criterion addresses how well the applicant described the need for such a program, including the problems experienced and the issues related to severe child physical abuse and sexual abuse in the community. The application must include a description of the agencies involved (tribal, local, state and federal) and where possible, statistics on the number of cases reported, investigated and substantiated, referred for services, and prosecuted in tribal or federal court.

2. Partnership Strategy/Design (35 points) This criterion measures how well the project design supports the purpose and goals of the partnership. The applicant's strategy or design must clearly address the identified problem, and provide a clear description of how the project will achieve the stated goals and objectives (15 points). The applicant must demonstrate that the proposed partnership program has been discussed with and approved by the Chairman and Tribal Council, including a Tribal Resolution and allocation of the in-kind match (15 points). If an applicant proposes using employees or other professionals, (i.e., forensic interviewer, law enforcement officer, IHS doctor), who will be detailed or loaned to the partnership as in-kind match, letters of support or other documentation must be included to support the detail. All in-kind match must be described in the project narrative and budget narrative. A Tribal Resolution is a strong indicator of Tribal Council approval and will be used by OVC as an assurance of tribal support for the partnership.

The project strategy must include a description of project stages, tasks, activities, timelines, and a clear description of interim deliverables and final products (5 points).

3. Organizational Capability (20 points): This criterion will demonstrate the applicant's capability for developing and packaging a comprehensive program that addresses the investigation, prosecution, case handling and treatment of child physical and sexual abuse. The organizational capability will be assessed on the basis of: (a) the applicant's described management structure and partnership management plan (10 points); and (b) the applicant's discussion and documentation of key staff members' qualifications to perform the assigned tasks and responsibilities (10 points). In instances where the applicant has previously received CJA funds, the progress made under the previous grant must be discussed.

4. Budget (15 points): Points will be assigned based on the applicant's demonstration that sufficient staff and time have been allocated to the project to accomplish the proposed tasks and that the budgeted costs are reasonable, cost-effective, and accurately reflect how grant funds will be used. All in-kind or hard match must be described in the budget narrative.

5. Plan for Measuring Progress and Outcome (15 points): This criterion will evaluate the applicant's plan for assessing the impact of the project in improving the investigation, prosecution and overall handling of child sexual abuse cases. Applicants should describe the criteria and units of measurement which will be used to assess the partnership's effectiveness, such as number of abused victims served, number of individuals trained, positive changes that the child protection team has made as a result of having been trained, any new capacity or improved response to child victims that was developed as a result of the training or the partnership program, the number and type of products disseminated, user satisfaction data, and the number of community awareness programs presented. Requests for materials and for repeat training are also strong indicators of success.

Application Submission

Applicants should submit an original and two (2) copies of the proposal to the Office for Victims of Crime, Federal Crime Victims Division, 810 Seventh Street, N.W., Washington, D.C. 20531; phone: (202) 616-3578. All submissions must include:

1. A completed and signed Application for Federal Assistance, Standard Form 424, (SF-424 Rev. 4/88), including the Certified Assurances.

2. OJP Form 4061/6 (Certification Regarding Lobbying; Debarment, Suspension and Other Responsibility Matters; and Drug-Free Work Place Requirements).

3. A proposed budget outlining all costs for personnel, fringe benefits, travel, equipment, supplies, other (e.g., telephone, postage) and the in-kind match. See the section on Dollar Amounts for an explanation of In-kind Match. Funds should also be budgeted for travel to at least two OVC sponsored cluster meetings or conferences. For planning purposes, travel should be estimated for one trip to Washington, D.C. for 3 days and one trip to San Diego, CA or the National Indian Nations Conference for 5 days. Federal per diem rates will be used.

4. An abstract of the full proposal, not to exceed one page.

5. A program narrative of not more than 20 double-spaced typed pages. The narrative should include the following information:

(a) A clear, concise statement of the problems experienced by the tribe in handling, investigating and prosecuting cases of serious child abuse.

(b) A description of how child abuse and child sexual abuse cases are currently handled, by law enforcement, social services, etc. and the Child Protection Team (CPT), if it is operational. This description should depict the system currently in place and include the role of all tribal, federal and state agencies in investigating, referring, treating and prosecuting serious child abuse cases.

(c) The data and statistics required by the selection criteria.

(d) A clear statement of the project objectives, including a listing of the major events, activities, products and a timetable for completion.

(e) A clear explanation of how this project will result in systemic improvement in the investigation and prosecution of child sexual abuse cases while limiting trauma to child victims.

(f) The proposed management and staffing plan.

(g) The method of evaluating the proposed program.

6. Attachments to the narrative should include:

(a) Letters of support from agencies at the Federal, state and local levels that are also involved in handling, investigating and/or prosecuting child abuse cases.

(b) A brief history of all grants the tribe has received over the past 2 years related to: domestic violence, child abuse, family violence, sexual assault, law enforcement and/or victimization.

(c) Copies of resumes for the proposed professional staff which summarize education and professional experience.

Special Instructions: In order to facilitate handling, please do not bind the applications at the spine, use spiral binders, or tabs. Please number the pages.

Application forms may be obtained by writing or telephoning: Federal Crime Victims Division, OVC, 810 Seventh Street, NW, Washington, D.C. 20531; phone: (202) 616-3578.

Award Amounts

Grants will be awarded at $60,000 for the first year with continuation funding in the second and third year, contingent upon the grantee's performance, the success of the project, and the availability of federal funds.

OVC has allocated up to $500,000 for this initiative in FY2001, and anticipates supporting up to 10 grant awards. Funding support will be provided for up to three years with an “in-kind” match requirement each year. The purpose of the “in-kind” match is to obtain tribal investment into the partnership from the beginning of the grant award, thereby enhancing the tribe's ability to institutionalize the program after OVC funding ends. The in-kind match must be in the form of staff time, facilities, office space and utilities, employee details/loans, and agency partnerships. Hard match is allowable in lieu of in-kind match. Volunteer time cannot be used as match.

The first year award will be limited to $60,000 per grantee and will require a 10% in-kind match. The second year of funding will be $75,000 with a 15% in-kind match, and the third year of funding will be $75,000 with a 25% in-kind match.

Award Period

The grants will be for 12 months, with potential continuations for two additional years.

Dated: October 11, 2000.
Carolyn Hightower,
Deputy Director, Office for Victims of Crime.

[FR Doc. 00-26467 Filed 10-13-00; 8:45 am]

BILLING CODE 4410-18-P